FEDERAL ELECTION COMMISSION

Sunshine Act Meeting

TIME AND DATE: Thursday, December 14, 2017 at 10:00 a.m.

PLACE: 999 E Street, NW., Washington, DC. (Ninth Floor)

STATUS: This meeting will be open to the public.

MATTERS TO BE CONSIDERED:

Audit Division Recommendation Memorandum on the Hawaii Democratic Party (HDP) (A13-07)

Draft Advisory Opinion 2017-12: Take Back Action Fund

Assessment of Commission Action on Enforcement Matters Awaiting Reason-to-Believe Consideration

Legislative Recommendations

2018 Meeting Dates

Election of Officers

Management and Administrative Matters

CONTACT PERSON FOR MORE INFORMATION: Judith Ingram, Press Officer, Telephone: (202) 694-1220.

Individuals who plan to attend and require special assistance, such as sign language interpretation or other reasonable accommodations, should contact Dayna C. Brown, Secretary and Clerk, at (202)694-1040, at least 72 hours prior to the meeting date.

Dayna C. Brown,
Secretary and Clerk of the Commission.

[FR Doc. 2017-26769 Filed 12-7-17; 4:15 pm]

BILLING CODE 6715-01-P